OFFICE OF NATIONAL DRUG CONTROL POLICY

Meeting of the Advisory Commission on Drug Free Communities

AGENCY: Office of National Drug Control Policy.

ACTION: Notice of meeting.

SUMMARY: The Advisory Commission on Drug Free Communities will meet to discuss drug free communities initiatives and issues. The discussion will include remarks by the ONDCP Director, results of the Commission's previous recommendations, an update by the Drug Free Communities Support Program Administrator, and an update on the evaluation contract.

DATES: The meeting will occur noon to 5:45 p.m., Tuesday, September 28, 2004, and 8:30 a.m. to 3:30 p.m., Wednesday, September 29, 2004. The period for public comment will occur 12:45 p.m. to 1:15 p.m., Wednesday, September 29, 2004.

ADDRESSES: The meeting will occur at the Office of National Drug Control Policy, 5th Floor Conference Room, 750 17th Street, NW., Washington, DC 20503. To register call Carlos Dublin at (202) 395-6762.

FOR FURTHER INFORMATION CONTACT: Linda Priebe (202) 395-6622.

Dated: August 20, 2004.
Daniel R. Petersen,
Assistant General Counsel.

[FR Doc. 04-19487 Filed 8-24-04; 8:45 am]

BILLING CODE 3180-02-P